DEPARTMENT OF HEALTH AND HUMAN SERVICES

National Institutes of Health

Office of Dietary Supplements (ODS) Methods and Reference Materials Program—Vitamin Methodology Workshop; Correction Notice

Notice is hereby given that the meeting notice which we previously published in the Federal Register on May 20, 2008 (73 FR 29140-29141) concerning the workshop to be held on Monday, July 7th and Tuesday, July 8th, 2008 at the Marriott Gaithersburg Washingtonian Center Hotel in Gaithersburg, Maryland 20878, contained an error. The contact e-mail address information for Mr. Mike Bykowski that we provided in the notice was incorrect. It should read: mbykowski@csionweb.com. Mr. Bykowski also may be reached by telephone at 301-670-2070.

Dated: May 21, 2008.
Joseph M. Betz,
Office of Dietary Supplements, National Institutes of Health.

[FR Doc. E8-11923 Filed 5-28-08; 8:45 am]

BILLING CODE 4140-01-P